DEPARTMENT OF THE INTERIOR

Minerals Management Service (MMS)

Outer Continental Shelf, Central and Western Gulf of Mexico, Oil and Gas Lease Sales for Years 2002-2007

AGENCY: Minerals Management Service, Interior.

ACTION: Notice of dates and locations of scoping meetings for the Environmental Impact Statement (EIS).

SUMMARY: The MMS is proposing to prepare a single EIS (multisale EIS) for the nine areawide oil and gas lease sales in the Central and Western Planning Areas (CPA and WPA) scheduled for 2003-2007 in the draft proposed Outer Continental Shelf Oil and Gas Leasing Program: 2002-2007. The MMS will be soliciting information from States, local governments, the oil and gas industry, Federal Agencies, environmental and other interested organizations, and the public regarding issues and alternatives that should be evaluated in the EIS. The scoping meetings will provide information for the development of appropriate alternatives and mitigating measures, as well as to identify significant issues, to be considered in the draft EIS. Respondents are requested to focus their comments on the significant environmental issues attendant to OCS oil and gas leasing and development in the CPA and WPA and on alternative options for the size, timing, and location of sales.

DATES: The scoping meetings will be held on the following dates and at the times and locations indicated. Monday, October 15, 2001, The Victorian Condo-Hotel and Conference Center, 6300 Seawall Boulevard, Galveston, Texas, 6:30 p.m. to 8:30 p.m. Tuesday, October 16, 2001, Houston Airport Marriott, 18700 Kennedy Boulevard, Houston, Texas, 1:00 p.m. to 3:00 p.m. Thursday, October 18, 2001, Ramada Plaza Hotel, 600 S. Beltline Highway, Mobile, Alabama, 6:30 p.m. to 8:30 p.m. Monday, October 22, 2001, Minerals Management Service, 1201 Elmwood Park Boulevard, New Orleans, Louisiana, 1:00 p.m. to 3:00 p.m.

FOR FURTHER INFORMATION CONTACT: For information on the scoping meetings or the multisale EIS, please contact Mr. Joseph Christopher, Minerals Management Service, Gulf of Mexico OCS Region, 1201 Elmwood Park Boulevard, New Orleans, Louisiana 70123-2394, telephone (504) 736-2774.

SUPPLEMENTARY INFORMATION: Federal regulations allow for several proposals to be analyzed in one EIS (40 CFR 1502.4). Since each sale proposal and projected activities are very similar each year for each planning area, the MMS is preparing a multisale EIS for the nine CPA and WPA lease sales. The multisale approach is intended to focus the NEPA/EIS process on new issues and information for the annual lease sales. At the completion of this EIS process, decisions will be made only for proposed Sales 185 and 187, scheduled to be held in 2003. Subsequent to these first sales in the planning areas, a NEPA review will be conducted for each of the other proposed lease sales in the 2002-2007 Leasing Program. Formal consultation with other Federal Agencies, the affected States, and the public will be carried out to assist in the determination of whether or not the information and analyses in the original multisale EIS are still valid. These consultations and NEPA reviews will be completed before decisions are made on the subsequent sales. Comments are sought from all interested parties about particular geological, environmental, biological, archaeological and socioeconomic conditions or conflicts, or other information that might bear upon the potential leasing and development in the CPA and WPA. Comments are also sought on possible conflicts between future OCS oil and gas activities that may result from the proposed sales and State Coastal Management Programs (CMP). If possible, these comments should identify specific CMP policies of concern, the nature of the conflict foreseen, and steps that the MMS could take to avoid or mitigate the potential conflict.

Dated: September 10, 2001.
Chris C. Oynes,
Regional Director, Gulf of Mexico OCS Region.

[FR Doc. 01-24585 Filed 10-1-01; 8:45 am]

BILLING CODE 4310-MR-P